NUCLEAR REGULATORY COMMISSION

Notice of Public Meeting; Pre-application Early Site Permit Meetings for the North Anna Site

AGENCY: U.S. Nuclear Regulatory Commission.

ACTION: Notice of public meetings in Mineral, Virginia.

SUMMARY: The U. S. Nuclear Regulatory Commission (NRC) will hold facilitated meetings on April 1, 2003, to provide information to the public on the NRC Early Site Permit (ESP) review process, as well as the opportunities for public involvement in that process for the North Anna site. Dominion Energy, Incorporated (Dominion) is expected to file an ESP in September 2003 for a new reactor or reactors at the North Anna site.

Date/Time: The meetings will be held on Tuesday, April 1, 2003, beginning with the first meeting from 2 p.m. through 4:30 p.m., followed by a later meeting from 7 p.m. through 9:30 p.m. Each meeting will be preceded by an “open house” one hour prior to the meeting to allow for individual discussions with staff members.

Location: Louisa County Library, 881 Davis Highway, Mineral, Virginia

FOR FURTHER INFORMATION CONTACT: Francis X. Cameron, Special Council for Public Liaison, Office of General Council, U.S. Nuclear Regulatory Commission, Washington, DC 20555-0001, or by telephone: (301) 415-1642 or e-mail: fxc@nrc.gov. Mr. Cameron will facilitate the meeting.

SUPPLEMENTARY INFORMATION: Additional information can be obtained from the Web site (http://nrcweb.nrc.gov:300/reactors/new-licensing/license-reviews/esp.html), or by contacting Mr. Michael Scott at (301) 415-1421, or via e-mail at mls3@nrc.gov.

Dated at Rockville, Maryland this 26th day of February 2003.
For the Nuclear Regulatory Commission:
James E. Lyons,
Director, New Reactor Licensing Project Office, Office of Nuclear Reactor Regulation.

[FR Doc. 03-4893 Filed 2-28-03; 8:45 am]

BILLING CODE 7590-01-P